Title 3—

The President

Proclamation 8026 of June 1, 2006

National Child's Day, 2006

By the President of the United States of America

A Proclamation

A hopeful society ensures that its children are provided with the knowledge, skills, and opportunities to succeed. On National Child's Day, we reaffirm our commitment to America's children and recognize the power that each of us has to make a difference in a young person's life.

The character of a child is formed in the earliest years through the love and guidance of family members and other caring individuals. A parent, teacher, or mentor can help improve a child's academic achievement, encourage right choices, and help them to understand the importance of serving a cause greater than self.

Through USA Freedom Corps, my Administration is providing opportunities for volunteers to work with children in schools, after-school programs, and through community groups and organizations. By volunteering, these adults set an example of service and good citizenship for our young people and provide youth with the stability and encouragement they need to achieve their dreams. My Administration has also launched the Community Guide to Helping America's Youth at helpingamericasyouth.gov. This web-based tool is part of the Helping America's Youth initiative, led by First Lady Laura Bush, and assists communities in identifying ways to lend a hand to children in need. In addition, my Administration is working through No Child Left Behind and the American Competitiveness Initiative to ensure every child has a quality education and the opportunity to succeed. By investing in the lives of our young people, we can help develop their personal character, teach them to be responsible citizens, and enable them to realize their full potential.

NOW, THEREFORE, I, GEORGE W. BUSH, President of the United States of America, do hereby proclaim June 4, 2006, as National Child's Day. I call upon citizens to observe this day with appropriate ceremonies and activities. I also urge all the people of the United States to take an active role in helping nurture the minds and character of our Nation's children.

IN WITNESS WHEREOF, I have hereunto set my hand this first day of June, in the year of our Lord two thousand six, and of the Independence of the United States of America the two hundred and thirtieth.

B

[FR Doc. 06-5199

Filed 6-5-06; 8:46 am]

Billing code 3195-01-P